DEPARTMENT OF TRANSPORTATION

Federal Highway Administration

Notice of Final Federal Agency Actions on Proposed Lynnwood Link Extension Project in Washington

AGENCY: Federal Highway Administration (FHWA), DOT

ACTION: Notice of limitation on claims for judicial review of actions by FHWA and other Federal agencies

SUMMARY: This notice announces actions taken by FHWA that are final within the meaning of 23 U.S.C. 139(l)(1). The actions relate to a proposed transportation project, the Sound Transit Lynnwood Link Extension Project, located in the cities of Seattle, Shoreline, Mountlake Terrace, and Lynnwood, WA. Those actions grant licenses, permits, and approvals for the project.

DATES: By this notice, FHWA is advising the public of final agency actions subject to 23 U.S.C. 139(l)(1). A claim seeking judicial review of the Federal agency actions on the highway project will be barred unless the claim is filed on or before March 7, 2016. If the Federal law that authorizes judicial review of a claim provides a time period of less than 150 days for filing such claim, then that shorter time period still applies.

FOR FURTHER INFORMATION CONTACT: Lindsey Handel, Area Engineer, Federal Highway Administration—Washington Division, 711 South Capitol Way, Suite 501, Olympia, WA 98501. Office hours are 8:00 a.m. to 4:00 p.m. (Pacific Time), (360) 753-9550, Lindsey.Handel@dot.gov . You may also contact Steven Kennedy, Sound Transit, (206) 398-5302, steven.kennedy@soundtransit.org.

SUPPLEMENTARY INFORMATION: Notice is hereby given that FHWA has taken final agency actions by issuing a Record of Decision (ROD) for the Lynnwood Link Extension Project. The proposed project would extend the Sound Transit Link light rail system from Northgate in Seattle north into Shoreline, Mountlake Terrace, and Lynnwood in Snohomish County. The 8.5-mile project corridor would generally follow Interstate 5. Project components include traction power substations along the project alignment, new noise walls and relocation of existing noise walls, relocation of underground and overhead utilities, crossover tracks, stormwater management facilities, park-and-ride facilities, and interchange, intersection, street, and sidewalk improvements. Final agency actions: Section 4(f) de minimis impact determination; Section 106 finding of no adverse effect; project-level air quality conformity; and Record of Decision, dated August 31, 2015. Supporting documentation: Final Environmental Impact Statement, dated April 3, 2015.

The EIS and ROD can be viewed and downloaded from the project Web site at http://www.soundtransit.org/LLE or viewed at the Seattle, King County, and Sno-Isle Public Libraries. This notice applies to all Federal agency decisions on the project, as of the issuance date of this notice, and all laws under which such actions were taken, including but not limited to:

1. General: National Environmental Policy Act [42 U.S.C. 4321-4351]; Federal-Aid Highway Act [23 U.S.C. 109].

2. Air: Clean Air Act, as amended [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544]; Anadromous Fish Conservation Act [16 U.S.C. 757(a)-757(g)]; Fish and Wildlife Coordination Act [16 U.S.C. 661-667(d)]; Magnuson-Stevenson Fishery Conservation and Management Act of 1976, as amended [16 U.S.C. 1801 et seq.].

5. Historic and Cultural Resources: Section 106 of the National Historic Preservation Act of 1966, as amended [16 U.S.C. 470(f) et seq.]; Archaeological Resources Protection Act of 1977 [16 U.S.C. 470(aa)-11]; Archaeological and Historic Preservation Act [16 U.S.C. 469-469(c)]; Native American Grave Protection and Repatriation Act [25 U.S.C. 3001-3013].

6. Social and Economic: Civil Rights Act of 1964 [42 U.S.C. 2000(d)-2000(d)(1)]; American Indian Religious Freedom Act [42 U.S.C. 1996]; Farmland Protection Policy Act [7 U.S.C. 4201-4209]; the Uniform Relocation Assistance and Real Property Acquisition Policies Act of 1970, as amended [42 U.S.C. 61].

7. Wetlands and Water Resources: Clean Water Act, 33 U.S.C. 1251-1377 (Section 404, Section 401, Section 319); Coastal Zone Management Act [16 U.S.C. 1451-1465]; Land and Water Conservation Fund [16 U.S.C. 4601-4604]; Safe Drinking Water Act [42 U.S.C. 300(f)-300(j)(6)]; Rivers and Harbors Act of 1899 [33 U.S.C. 401-406]; TEA-21 Wetlands Mitigation [23 U.S.C. 103(b)(6)(m), 133(b)(11)]; Flood Disaster Protection Act [42 U.S.C. 4001-4128].

8. Hazardous Materials: Comprehensive Environmental Response, Compensation, and Liability Act [42 U.S.C. 9601-9675]; Superfund Amendments and Reauthorization Act of 1986 [PL 99-499]; Resource Conservation and Recovery Act [42 U.S.C. 6901-6992(k)].

9. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Dated: September 21, 2015.
Frederick A. Judd IV,
Division Administrator, Olympia, Washington.

[FR Doc. 2015-25593 Filed 10-8-15; 8:45 am]

BILLING CODE 4910-RY-P